DEPARTMENT OF COMMERCE

Patent and Trademark Office

Submission for OMB Review; Comment Request; “Post Registration (Trademark Processing)”

The United States Patent and Trademark Office (USPTO) will submit to the Office of Management and Budget (OMB) for clearance the following proposal for collection of information under the provisions of the 1995 Paperwork Reduction Act. This notice includes adjustments to the collection showing an increase in the respondents and hourly burdens associated with recent approved fee adjustments.

Agency: United States Patent and Trademark Office, Commerce.

Title: Post Registration (Trademark Processing).

OMB Control Number: 0651-0055.

Form Number(s):

• PTO Form 1563

• PTO Form 1573

• PTO Form 1583

• PTO Form 1597

• PTO Form 1963

• TEAS Global Form

Type of Request: Regular.

Number of Respondents: 220,272 responses per year.

Average Hours Per Responses: The USPTO estimates that it will take between approximately 5 minutes (0.08 hours) and 1 hour to complete the information in this collection. This includes the time to gather the necessary information, create the documents, and submit the completed request to the USPTO.

Burden Hours: 71,575.70 hours per year.

Cost Burden: $63,862,183 per year.

Needs and Uses: The USPTO uses the information described in this collection to process post registration submissions, which include declarations of continued use (or excusable non-use) of a mark in commerce and renewal applications, with the purpose of maintaining the quality of the trademark register. The information in this collection is used by the public for a variety of private business purposes related to establishing and enforcing trademark rights. The information collected is a matter of public record, and thus is available at USPTO facilities and on the USPTO website. Additionally, the USPTO provides the information to other entities, including Patent and Trademark Resource Centers (PTRCs). The PTRCs maintain the information for use by the public.

Affected Public: Businesses or other for-profits; not-for-profit institutions.

Frequency: On occasion.

Respondent's Obligation: Required to Obtain or Retain Benefits.

OMB Desk Officer: Nicholas A. Fraser, email: Nicholas_A._Fraser@imb.eop.gov. Once submitted, the request will be publicly available in electronic format through www.reginfo.gov. Follow the instructions to view Department of Commerce collections currently under review by OMB.

Further information can be obtained by:

• Email: InformationCollection@uspto.gov. Include “0651-0055 information request” in the subject line of the message.

• Mail: Catherine Cain, Attorney Advisor, Office of the Commissioner for Trademarks, United States Patent and Trademark Office, PO Box 1450, Alexandria, VA 22313-1450.

Written comments and recommendations for the proposed information collection should be sent on or before September 4, 2018 to Nicholas_A._Fraser@omb.eop.gov, or by fax to 202-395-5167, marked to the attention of Nicholas A. Fraser.

Marcie Lovett,
Director, Records and Information Governance Division, Office of the Chief Technology Officer, United States Patent and Trademark Office.

[FR Doc. 2018-16508 Filed 8-1-18; 8:45 am]

BILLING CODE 3510-16-P